DEPARTMENT OF THE INTERIOR

Bureau of Land Management

[LLCAN00000.L18200000.XZ0000]

Notice of Public Meeting: Northeast California Resource Advisory Council Wild Horse and Burro Management Subcommittee

AGENCY: Bureau of Land Management, Interior.

ACTION: Notice of Public Meeting.

SUMMARY: In accordance with the Federal Land Policy and Management Act of 1976 (FLPMA), and the Federal Advisory Committee Act of 1972 (FACA), the U. S. Department of the Interior, Bureau of Land Management (BLM) Northeast California Resource Advisory Council's wild horse and burro management subcommittee will meet as indicated below.

DATES: The committee will meet Wednesday, Jan. 11, at 9 a.m., at the BLM Alturas Field Office, 708 West 12th St., Alturas, California. The meeting is open to the public.

FOR FURTHER INFORMATION CONTACT: Nancy Haug, BLM Northern California District manager, (530) 224-2160; or Joseph J. Fontana, BLM public affairs officer, (530) 252-5332.

SUPPLEMENTARY INFORMATION: The subcommittee was formed by the 15-member Northeast California Resource Advisory Council to work on issues associated with management of wild horses and burros on public lands managed by the BLM Eagle Lake, Alturas and Surprise field offices. The subcommittee reports to the full advisory council. The northeast California Resource Advisory Council advises the Secretary of the Interior, through the BLM, on a variety of planning and management issues associated with public land management in northeast California and the northwest corner of Nevada. The topic for the subcommittee meeting is developing recommendations on wild horse and burro program management. Members of the public who plan to attend and need special assistance, such as sign language interpretation and other reasonable accommodations, should contact the BLM as provided above.

Dated: Dec. 2, 2011.
Joseph J. Fontana,
Public Affairs Officer.

[FR Doc. 2011-32386 Filed 12-16-11; 8:45 am]

BILLING CODE 4310-40-P